DEPARTMENT OF TRANSPORTATION

Federal Motor Carrier Safety Administration

[Docket No. FMCSA-2018-0299]

Hours of Service of Drivers: Application for Exemption; Fiat Chrysler Automobiles (FCA)

AGENCY: Federal Motor Carrier Safety Administration (FMCSA), DOT.

ACTION: Notice of application for exemption; request for comments.

SUMMARY: FMCSA announces that Fiat Chrysler Automobiles (FCA) has requested an exemption from the requirement that a motor carrier install and require each of its drivers to use an electronic logging device (ELD) to record the driver's hours-of-service (HOS). FCA has requested a two-year exemption for all its operators of commercial motor vehicles (CMVs) including engineers, technicians, and other drivers who operate CMVs on public roads. FCA's product development activities encompass working with suppliers on validating engineering redesigns for future vehicles, and they estimate that 85% to 90% of such testing occurs on-site at its facilities. The remaining testing occurs off-site on public roads which is the reason FCA is requesting the exemption from the ELD regulations. FCA believes that granting this exemption will have no adverse safety impacts while its CMV operators are performing product development on off-site public road trips. FMCSA requests public comment on FCA's application for exemption.

DATES: Comments must be received on or before November 19, 2018.

ADDRESSES: You may submit comments identified by Federal Docket Management System (FDMS) Number FMCSA-2018-0299 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

• Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. Richard Clemente, FMCSA Driver and Carrier Operations Division; Office of Carrier, Driver and Vehicle Safety Standards; Telephone: 202-366-2722. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2018-0299), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2018-0299” in the “Keyword” box, and click “Search.” When the new screen appears, click on “Comment Now!” button and type your comment into the text box in the following screen. Choose whether you are submitting your comment as an individual or on behalf of a third party, and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

FCA's CMVs include RAM trucks and other product families, which when configured with a trailer have a gross combination weight rating greater than 10,000 pounds. When operated in interstate commerce, this subjects the company and its drivers to the 49 CFR part 300-399 series of Federal regulations including the hours-of-service (HOS) rules. Procedures and processes are in place to ensure that only FCA and supplier employees with an active driver qualification file operate these vehicles. In any given year, up to 100 FCA employees may be involved in driving its CMVs on product development off-site road trips. All of its engineers and technicians are infrequent drivers who on average drive less than 2,500 miles/year on public roads. Additionally, all Engineering Groups conduct off-site road trips to evaluate systems and components to support future product development activities. Including non-CMV support vehicles, FCA normally sends between 8 to 12 vehicles with 4 to 5 trailers. This type of trip would include up to 20 drivers (engineers and technicians) who possess either a commercial driver's license or a chauffer's license. Most road trips involve a smaller number of vehicles and drivers, and according to FCA, a significant amount of testing occurs while the vehicles are stationary.

FCA's product development activities encompass working with suppliers on validating engineering redesigns for future vehicles. FCA tests “next generation” vehicles against competing products from other original equipment manufacturers in dynamics settings. FCA estimates that 85% to 90% of such testing occurs on-site at its facilities or proving grounds, and the remaining testing occurs off-site on public roads. Specifically, FCA conducts tests to benchmark vehicles against competing brands, and some of these programs involve calibration and thermal validation of complete vehicle systems at various locations in the United States and Canada. On occasion, the instrumented vehicles and trailers are shipped to the off-site testing location, and on other occasions, FCA's engineers, technicians and suppliers drive these vehicles to the off-site test locations. None of its CMVs are involved in package delivery or passenger transportation.

FCA has already tested several portable electronic logging device (ELD) units and found that the device interferes with the ability of their data loggers to capture high-speed data from vehicle control modules and networks for critical vehicle validation. Furthermore, the device causes the logger to suspend all message transmissions in error. As a result of its detailed investigations on this matter, FCA has concluded that utilizing paper records of duty status (RODS) and/or another HOS compliance application besides an ELD is the most effective and accurate method of measuring and reporting HOS that is compatible with its data loggers. FCA further includes a number of exhibits which demonstrate the problems described in the application when utilizing ELDs. The Company also includes HOS and other general compliance forms currently used to remain in compliance with the appropriate Federal Motor Carrier Safety Regulations.

IV. Method To Ensure an Equivalent or Greater Level of Safety

According to FCA, the granting of this exemption will have no negative impact on public safety or compliance with the HOS regulations. FCA takes the safety of its employees and the general public seriously. All product development off-site road trips are planned months in advance, and the participants, details of the testing protocol, routing and choice of lodgings are selected to maintain HOS compliance. Its employees have been using paper RODS to record HOS for the past five years. FCA utilizes print and on-line training tools to instruct its employees in CMV Driver Basics; Compliance, Safety, Accountability Know the Basics; Driver Vehicle and Road Side Inspections; and HOS Driver Training. FCA further recognizes that employees rotate annually between vehicle platforms and therefore conducts several safe driving workshops annually at its facilities to introduce and reinforce the following: Preparing to drive a CMV and driver fatigue; the basics of vehicle handling and safe braking with and without a trailer; truck-trailer backing skills including backing up an inclined road and parking; downhill braking techniques with ballasted trailers; and demonstration of proper truck/trailer connections (conventional, fifth wheel and gooseneck). All FCA attendees will have an opportunity to practice driving, parking and safe backing skills. FCA requests a two-year exemption from the ELD requirements in 49 CFR part 395 subpart B.

A copy of FCA's application for exemption is available for review in the docket for this notice.

Issued on: October 12, 2018.
Larry W. Minor,
Associate Administrator for Policy.

[FR Doc. 2018-22701 Filed 10-17-18; 8:45 am]

BILLING CODE 4910-EX-P